DEPARTMENT OF COMMERCE

National Oceanic and Atmospheric Administration

[I.D. 060101A]

Marine Mammals; Permits

AGENCY: National Marine Fisheries Service (NMFS), National Oceanic and Atmospheric Administration (NOAA), Commerce.

ACTION: Receipt of application No. 751-1614-00; and receipt of applications to amend permits (782-1532-00, 981-1578-00).

SUMMARY: Notice is hereby given of the following actions regarding permits for takes of marine mammal species for the purposes of scientific research:

NMFS has received a permit application from: Ocean Alliance/Whale Conservation Institute, 191 Weston Road, Lincoln, Massachusetts 01773 (Dr. Roger S. Payne, Principal Investigator) (Application No. 751-1614-00); NMFS has received applications for permit amendments from:; NMFS, National Marine Mammal Laboratory, 7600 Sand Point Way, N.E., BIN C15700, Seattle, WA 98115-0070 (Permit No. 782-532-00)); and Dr. Peter L. Tyack, Biology Department, Woods Hole Oceanographic Institution, Woods Hole, MA 02543 (Permit No. 981-1578).

DATES: Written or telefaxed comments on the new application or amendment requests must be received on or before July 9, 2001.

ADDRESSES: The application and related documents are available for review upon written request or by appointment. See SUPPLEMENTARY INFORMATION.

Written comments or requests for a public hearing on the application or amendment requests should be mailed to the Chief, Permits and Documentation Division, F/PR1, Office of Protected Resources, NMFS, 1315 East-West Highway, Room 13705, Silver Spring, MD 20910. Those individuals requesting a hearing should set forth the specific reasons why a hearing on this particular request would be appropriate.

FOR FURTHER INFORMATION CONTACT: Ruth Johnson or Tammy Adams, (301)713-2289.

SUPPLEMENTARY INFORMATION: The subject application and permit amendments are requested under the authority of the Marine Mammal Protection Act of 1972, as amended (MMPA; 16 U.S.C. 1361 et seq.), the Regulations Governing the Taking and Importing of Marine Mammals (50 CFR part 216), the Endangered Species Act of 1973, as amended (ESA; 16 U.S.C. 1531 et seq.), the regulations governing the taking, importing, and exporting of endangered and threatened species (50 CFR 222-226), and the Fur Seal Act of 1966, as amended (16 U.S.C. 1151 et seq.)

New Application Received

For Application No. 715-1614-00, the applicant requests permission to conduct vessel and aerial surveys, collect tissue samples (sloughed skin and skin and blubber biopsies) from living, free-ranging animals and collect skin, blubber, blood, bone, baleen and other organ tissue samples from dead stranded animals from all age and sex classes of 21 cetacean species in U.S., foreign, and international waters. Tissue samples would be used to quantify toxicant loads and immunochemical responses to these loads to test the hypothesis that there are demonstrable differences between different populations ans species with regard to the levels of toxic compounds present. Genetic analyses would also be performed on samples to investigate the genetic diversity and variability of the population groups sampled. This information would be used to establish a baseline for comparisons with future samples and to assist in making future management and conservation policies.

Permit Amendment Requests Received

For Permit No. 782-1532-00, the Permit authorizes the Holder to take Steller sea lions (Eumetopias jubatus) for research that involves takes by aerial and ship based surveys biennally, capture and take morphological measurements, collect specimens (blood and biopsy), brand, tag, and disturb during scat collection. The Holder now requests to amend the take authority to conduct aerial surveys each year, include Southeast Alaska in monthly surveys, increase the number of animals to be incidentally harassed during scat collection, allow additional procedures for animal handling such as: using gas anesthesia, branding pups ≥4 mos and juveniles to 3 yrs, injecting Evan’s blue dye and deuterated water, collecting muscle biopsy, using noninvasive bioelectric impedance analysis, increasing blood sample volume, extracting a tooth, and pulling vibrissae. This Permit amendment will improve field techniques and incorporate collaborative efforts of scientists funded under the Steller Sea Lion Research Initiative.

For Permit No. 981-1578-00, the Permit authorizes the Holder to tag cetaceans with an advanced digital sound recording tag (DTAG) that can record the acoustic stimuli an animal hears, along with measuring vocal, behavioral, and physiological responses to sound played back at received levels of 120-160 dB re 1 micron Pa. The research was authorized in the Mediterranean and Ligurian Seas and off the coast of the Azores in the North Atlantic. The Holder requests an amendment to increase the source level but not the received level for a whale-finding sonar to 200 dB re 1 micron Pa at 1 m, add playbacks involving exposure to impulse signals from airguns as used in seismic surveys, include one additional baleen whale species and 12 species of Odontocete whale, and extend the study area to include North Atlantic and Gulf of Mexico.

In compliance with the National Environmental Policy Act of 1969 (42 U.S.C. 4321 et seq.), an initial determination has been made that the activities proposed are categorically excluded from the requirement to prepare an environmental assessment or environmental impact statement.

Written comments or requests for a public hearing on the application or amendment requests should be mailed to the Chief, Permits and Documentation Division, F/PR1, Office of Protected Resources, NMFS, 1315 East-West Highway, Room 13705, Silver Spring, MD 20910. Those individuals requesting a hearing should set forth the specific reasons why a hearing on these particular requests would be appropriate.

Comments may also be submitted by facsimile at (301) 713-0376, provided the facsimile is confirmed by hard copy submitted by mail and postmarked no later than the closing date of the comment period. Please note that comments will not be accepted by e-mail or by other electronic media.

Concurrent with the publication of this notice in the Federal Register, NMFS is forwarding copies of thee application and amendment requests to the Marine Mammal Commission and its Committee of Scientific Advisors.

Documents may be reviewed in the following locations:

For all permits and permit amendments: Permits and Documentation Division, Office of Protected Resources, NMFS, 1315 East-West Highway, Room 13705, Silver Spring, MD 20910; phone (301) 713-2289; fax (301) 713-0376;

For permit 751-1614-00: Northwest Region, NMFS, 7600 Sand Point Way NE, BIN C15700, Bldg. 1, Seattle, WA 98115-0700; phone (206) 526-6150; fax (206) 526-6426;

For permits 751-1614-00 and 782-1532-00: Alaska Region, NMFS, P.O. Box 21668, Juneau, AK 99802-1668; phone (907) 586-7221; fax (907) 586-7249;

For permit 751-1614-00: Southwest Region, NMFS, 501 West Ocean Blvd., Suite 4200, Long Beach, CA 90802-4213; phone (562) 980-4001; fax (562) 980-4018;

For permits 751-1614-00 and 981-1578-00: Northeast Region, NMFS, One Blackburn Drive, Gloucester, MA 01930-2298; phone (978) 281-9200; fax (978) 281-9371; and

For permits 751-1614-00 and 981-1578-00: Southeast Region, NMFS, 9721 Executive Center Drive North, St. Petersburg, FL 33702-2432; phone (727) 570-5301; fax (727) 570-5320.

Dated: June 4, 2001.
Ann D. Terbush,
Chief, Permits and Documentation Division, Office of Protected Resources, National Marine Fisheries Service.

[FR Doc. 01-14522 Filed 6-7-01; 8:45 am]

BILLING CODE 3510-22-S